DEPARTMENT OF COMMERCE

International Trade Administration

[Docket No. 110729450-1450-01]

Call for Applications for the International Buyer Program Calendar Year 2013

AGENCY: International Trade Administration, Department of Commerce.

ACTION: Notice and Call for Applications.

SUMMARY: This notice sets forth objectives, procedures and application review criteria associated with support for domestic trade shows by the International Buyer Program (IBP) of the U.S. Department of Commerce (DOC). This announcement covers selection for International Buyer Program participation for calendar year 2013 (January 1, 2013 through December 31, 2013). The purpose of the IBP program is to bring international buyers together with U.S. firms by promoting leading U.S. trade shows in industries with high export potential.

DATES: Applications must be received by October 31, 2011.

ADDRESSES: The application may be downloaded from http://www.export.gov/IBP. Applications may be submitted by any of the following methods: (1) Mail/Hand Delivery Service: International Buyer Program, Trade Promotion Programs, U.S. and Foreign Commercial Service, International Trade Administration, U.S. Department of Commerce, Ronald Reagan Building, 1300 Pennsylvania Ave., Suite 800M—Mezzanine Level—Atrium North, Washington DC 20004. Telephone (202) 482-4207; (2) Facsimile: (202) 482-7800; or (3) e-mail: IBP2013@trade.gov. Facsimile and e-mail applications will be accepted as interim applications, but must be followed by a signed original application that is received by the program no later than five (5) business days after the application deadline. To ensure that applications are timely received by the deadline, applicants are strongly urged to send applications by hand delivery service (e.g., U.S. Postal Service Express Delivery, Federal Express, UPS, etc.).

FOR FURTHER INFORMATION CONTACT: Blanche Ziv, Director, International Buyer Program, Trade Promotion Programs, U.S. and Foreign Commercial Service, International Trade Administration, U.S. Department of Commerce, 1300 Pennsylvania Ave., Ronald Reagan Building, Suite 800M—Mezzanine Level—Atrium North, Washington DC 20004; Telephone (202) 482-4207; Facsimile: (202) 482-7800; E-mail: IBP2013@trade.gov.

SUPPLEMENTARY INFORMATION: The International Buyer Program was established to bring international buyers together with U.S. firms by promoting leading U.S. trade shows in industries with high export potential. The International Buyer Program emphasizes cooperation between the DOC and trade show organizers to benefit U.S. firms exhibiting at selected events and provides practical, hands-on assistance such as export counseling and market analysis to U.S. companies interested in exporting. The assistance provided to show organizers includes worldwide overseas promotion of selected shows to potential international buyers, end-users, representatives and distributors. The worldwide promotion is executed through the offices of the DOC U.S. and Foreign Commercial Service (hereinafter referred to as the Commercial Service) in more than 76 countries representing the United States' major trading partners, and also in U.S. Embassies in countries where the Commercial Service does not maintain offices.

The Commercial Service is accepting applications for the International Buyer Program for trade events taking place between January 1, 2013 and December 31, 2013. Selection of a trade show is valid for one event, i.e., a trade show organizer seeking selection for a recurring event must submit a new application for selection for each occurrence of the event. Even if the event occurs more than once in the 12-month period covered by this announcement, the trade show organizer must submit a separate application for each event.

The Commercial Service expects to select approximately 35 events from among applicants to the program for the January 1, 2013 through December 31, 2013 period. The Commercial Service will select those events that are determined to most clearly meet the Commercial Service's statutory mandate to promote U.S. exports, especially those of small- and medium-sized enterprises, and that best meet the selection criteria articulated below. Shows selected for the International Buyer Program will provide a venue for U.S. companies interested in expanding their sales into international markets. Successful show organizer applicants will be required to enter into a Memorandum of Agreement (MOA) with the DOC. The MOA constitutes an agreement between the DOC and the show organizer specifying which responsibilities are to be undertaken by the DOC as part of the International Buyer Program and, in turn, which responsibilities are to be undertaken by the show organizer. Anyone requesting application information will be sent a sample copy of the MOA along with the application and a copy of this Federal Register Notice. Applicants are encouraged to review the MOA closely as IBP participants are required to comply with all terms and conditions in the MOA, including construction of an international business center at the trade show and producing an export interest directory. The responsibilities to be undertaken by the DOC will be carried out by the Commercial Service.

There is no fee required to submit an application. If accepted into the program, a participation fee of $8,000 for shows of five days or less is required within 45 days of written notification of acceptance into the program. For trade shows more than five days in duration, or requiring more than one International Business Center, a participation fee of $14,000 is required. For trade shows ten days or more in duration, and/or requiring more than two International Business Centers, the participation fee will be negotiated, but shall not be less than $19,500.

The DOC selects trade shows to be International Buyer Program partners that it determines to be leading international trade shows appropriate for participation by U.S. exporting firms and for promotion in overseas markets by U.S. Embassies and Consulates. Selection as an International Buyer Program partner does not constitute a guarantee by the U.S. Government of the show's success. International Buyer Program partnership status is not an endorsement of the show organizer except as to its international buyer activities. Non-selection should not be viewed as a finding that the event will not be successful in the promotion of U.S. exports.

Exclusions: Trade shows that are either first-time or horizontal (non-industry specific) events generally will not be considered.

Eligibility: All 2013 U.S. trade events are eligible to apply.

General Evaluation Criteria: The Commercial Service will evaluate shows to be International Buyer Program partners using the following criteria:

(a) Level of Intellectual Property Rights Protection: The trade show organizer includes in the terms and conditions of its exhibitor contracts provisions for the protection of intellectual property rights (IPR); has procedures in place at the trade show to address IPR infringement, which, at a minimum, provides information to help U.S. exhibitors procure legal representation during the trade show; and agrees to assist the DOC to reach and educate U.S. exhibitors on the Strategy Targeting Organized Piracy (STOP!), IPR protection measures available during the show, and the means to protect IPR in overseas markets, as well as in the United States.

(b) Export Potential: The trade show promotes products and services from U.S. industries that have high export potential, as determined by DOC sources, e.g., Commercial Service best prospects lists and U.S. export statistics (certain industries are rated as priorities by our domestic and international commercial officers in their Country Commercial Guides, available through the Web site, http://www.export.gov).

(c) Level of International Interest: The trade show meets the needs of a significant number of overseas markets and corresponds to marketing opportunities as identified by the posts in their Country Commercial Guides (e.g., best prospect lists). Previous international attendance at the show may be used as an indicator.

(d) Scope of the Show: The event must offer a broad spectrum of U.S. made products and services for the subject industry. Trade shows with a majority of U.S. firms as exhibitors are given priority.

(e) U.S. Content of Show Exhibitors: Trade shows with exhibitors featuring a high percentage of products produced in the United States or products with a high degree of U.S. content will be preferred.

(f) Stature of the Show: The trade show is clearly recognized by the industry it covers as a leading event for the promotion of that industry's products and services both domestically and internationally, and as a showplace for the latest technology or services in that industry.

(g) Level of Exhibitor Interest: There is demonstrated interest on the part of U.S. exhibitors in receiving international business visitors during the trade show. A significant number of U.S. exhibitors should be new-to-export (NTE) or seeking to expand their sales into additional export markets.

(h) Level of Overseas Marketing: There has been a demonstrated effort to market prior shows overseas. In addition, the applicant should describe in detail the international marketing program to be conducted for the event, and explain how efforts should increase individual and group international attendance. (Planned cooperation with Visit USA Committees overseas is desirable. For more information on Visit USA Committees go to: http://www.visitusa.com)

(i) Logistics: The trade show site, facilities, transportation services, and availability of accommodations at the site of the exhibition must be capable of accommodating large numbers of attendees whose native language will not be English.

(j) Level of Cooperation: The applicant demonstrates a willingness to cooperate with the Commercial Service to fulfill the program's goals and adhere to the target dates set out in the MOA and in the event timetables, both of which are available from the program office (see the “FOR FURTHER INFORMATION CONTACT” section above). Past experience in the International Buyer Program will be taken into account in evaluating the applications received for the January 1, 2013 through December 31, 2013 period.

(k) Delegation Incentives: Show organizers should offer a range of incentives to be offered to delegations and/or delegation leaders recruited by the Commercial Service overseas posts. Examples of incentives to international visitors and to organized delegations include, but are not limited to: Waived or reduced admission fees; special organized events, such as receptions, meetings with association executives, briefings, and site tours; and complimentary accommodations for delegation leaders. Waived or reduced admission fees are required for international attendees who are members of Commercial Service recruited delegations under this program. Delegation leaders also must be provided complimentary admission to the event.

Application Requirements: Show organizers submitting applications for the 2013 International Buyer Program are requested to submit: (1) A narrative statement addressing each question in the application, Form ITA-4102P; (2) a signed statement that “The above information provided is correct and the applicant will abide by the terms set forth in this Call for Applications for the 2013 International Buyer Program (January 1, 2013 through December 31, 2013)”; and (3) two copies of the application, on company letterhead, and one electronic copy submitted on a CD-RW (preferably in Microsoft Word® format), on or before the deadline noted above. There is no fee required to apply. The DOC expects to issue the results of this process in April 2012.

Legal Authority: The Commercial Service has the legal authority to enter into MOAs with show organizers (partners) under the provisions of the Mutual Educational and Cultural Exchange Act of 1961 (MECEA), as amended (22 U.S.C. sections 2455(f) and 2458(c)). MECEA allows the Commercial Service to accept contributions of funds and services from firms for the purposes of furthering its mission. The statutory program authority for the Commercial Service to conduct the International Buyer Program is 15 U.S.C. 4724.

The Office of Management and Budget (OMB) has approved the information collection requirements of the application to this program (Form ITA-4102P) under the provisions of the Paperwork Reduction Act of 1995 (44 U.S.C. 3501 et seq.) (OMB Control No. 0625-0151).

Notwithstanding any other provision of law, no person is required to respond to, nor shall a person be subject to a penalty for failure to comply with, a collection of information subject to the requirements of the Paperwork Reduction Act, unless that collection of information displays a currently valid OMB Control Number.

Dated: August 24, 2011.
Blanche Ziv,
Director, International Buyer Program, U.S. and Foreign Commercial Service, International Trade Administration, U.S. Department of Commerce.

[FR Doc. 2011-22157 Filed 8-31-11; 8:45 am]

BILLING CODE 3510-FP-P